DEPARTMENT OF THE TREASURY

Office of the Comptroller of the Currency

Agency Information Collection Activities: Submission for OMB Review; Comment Request

AGENCY: Office of the Comptroller of the Currency (OCC), Treasury.

ACTION: Notice and request for comment.

SUMMARY: The OCC, as part of its continuing effort to reduce paperwork and respondent burden, invites the general public and other Federal agencies to take this opportunity to comment on a continuing information collection, as required by the Paperwork Reduction Act of 1995. An agency may not conduct or sponsor, and a respondent is not required to respond to, an information collection unless the information collection displays a currently valid OMB control number. The OCC is soliciting comment concerning its renewal, without change, of an information collection titled “Lending Limits—12 CFR 32.” The OCC also gives notice that it has sent the information collection to OMB for review and approval.

DATES: You should submit your comments to the OCC and the OMB Desk Officer by April 1, 2004.

ADDRESSES: You should direct comments to:

OCC: Communications Division, Office of the Comptroller of the Currency, Public Information Room, Mailstop 1-5, Attention: 1557-0221, 250 E Street., SW., Washington, DC 20219. Commenters are encouraged to submit comments by fax or email. Comments may be sent by fax to (202) 874-4448, or by email to regs.comments@occ.treas.gov. You can inspect and photocopy the comments at the OCC's Public Information Room, 250 E Street, SW., Washington, DC 20219. You can make an appointment to inspect the comments by calling (202) 874-5043.

OMB: Joseph F. Lackey, Jr., OMB Desk Officer for the OCC, 1557-0221, Office of Information and Regulatory Affairs, Office of Management and Budget, New Executive Office Building, Room 10235, Washington, DC 20503.

FOR FURTHER INFORMATION CONTACT: You can request additional information or a copy of the collection from John Ference, Acting OCC Clearance Officer, or Camille Dixon, (202) 874-5090, Legislative and Regulatory Activities Division, Office of the Comptroller of the Currency, 250 E Street, SW., Washington, DC 20219.

SUPPLEMENTARY INFORMATION: The OCC is proposing to extend OMB approval of the following information collection:

Title: Lending Limits—12 CFR part 32.

OMB Number: 1557-0221.

Description: This submission covers an existing regulation and involves no change to the regulation or to the information collection. The OCC requests only that OMB extend its approval of the information collection.

The information collection is found in 12 CFR 32.7(b). The information collection applies generally to all national banks and specifically to those national banks that wish to use exceptions to OCC's lending limits for 1-4 family residential real estate loans and loans to small businesses.

Type of Review: Extension of a currently approved collection.

Affected Public: Businesses or other for-profit.

Estimated Number of Respondents: 2,140.

Estimated Total Annual Responses: 2,140.

Estimated Total Annual Burden: 55,640 hours.

Frequency of Response: On occasion.

Comments: The OCC has a continuing interest in the public's opinion regarding collections of information. Members of the public may submit comments regarding any aspect of this collection of information. All comments will become a matter of public record.

Dated: February 25, 2004.
Mark J. Tenhundfeld,
Assistant Director, Legislative and Regulatory Activities Division.

[FR Doc. 04-4601 Filed 3-1-04; 8:45 am]

BILLING CODE 4810-33-P